DEPARTMENT OF COMMERCE

National Oceanic and Atmospheric Administration

[I.D. 050304F]

Atlantic Coastal Fisheries Cooperative Management Act Provisions; Application for Exempted Fishing Permit (EFP)

Correction

In notice document E4-1256 beginning on page 31588 in the issue of June 4, 2004, make the following correction:

On page 31588, in the third column, in the DATES section, in the second line, “August 3, 2004” should read “July 6, 2004. ”.

[FR Doc. Z4-1256 Filed 6-28-04; 8:45 am]

BILLING CODE 1505-01-D

DEPARTMENT OF DEFENSE

GENERAL SERVICES ADMINISTRATION

NATIONAL AERONAUTICS AND SPACE ADMINISTRATION

48 CFR Part 12

[FAC 2001-24; FAR Case 2004-004; Item I]

RIN 9000-AJ97

Federal Acquisition Regulation; Incentives for Use of Performance-Based Contracting for Services

Correction

In rule document 04-13618 beginning on page 34226 in the issue of Friday, June 18, 2004, make the following corrections:

§12.102 [Corrected]

1. On page 34227, in the third column, in §12.102 (g)(1), in the second line, “14313” should read, “1431”.

2. On the same page, in the same column, in the same section, in the sixth and seventh lines, the phrase “performance-based contracting” should be deleted.

[FR Doc. C4-13618 Filed 6-28-04; 8:45 am]

BILLING CODE 1505-01-D